ENVIRONMENTAL PROTECTION AGENCY

[FRL-8956-03-OAR]

Administration of Cross-State Air Pollution Rule Trading Program Assurance Provisions for 2021 Control Periods

AGENCY: Environmental Protection Agency (EPA).

ACTION: Notice of data availability.

SUMMARY: The Environmental Protection Agency (EPA) is providing notice of the availability of data on the administration of the assurance provisions of the Cross-State Air Pollution Rule (CSAPR) trading programs for the control periods in 2021. Total emissions of nitrogen oxides (NOX) reported by Missouri units participating in the CSAPR NOX Ozone Season Group 2 Trading Program during the 2021 control period exceeded the state's assurance level under the program. Data demonstrating the exceedance and EPA's final calculations of the amounts of additional allowances that the owners and operators of certain Missouri units must surrender have been posted in a spreadsheet on EPA's website.

DATES: September 21, 2022.

FOR FURTHER INFORMATION CONTACT: Questions concerning this action should be addressed to Garrett Powers at (202) 564-2300 or powers.jamesg@epa.gov.

SUPPLEMENTARY INFORMATION: The regulations for each CSAPR trading program contain “assurance provisions” designed to ensure that the emissions reductions required from each state covered by the program occur within the state. If the total emissions from a given state's affected units exceed the state's assurance level under the program, then two allowances must be surrendered for each ton of emissions exceeding the assurance level (in addition to the ordinary obligation to surrender one allowance for each ton of emissions). In the quarterly emissions reports covering the 2021 control period, Missouri units participating in the CSAPR NOX Ozone Season Group 2 Trading Program reported emissions that exceed the state's assurance level under the program by 1,295 tons, resulting in a requirement for the surrender of 2,590 additional allowances.

When a state's assurance level is exceeded, responsibility for surrendering the required additional allowances is apportioned among groups of units in the state represented by “common designated representatives” based on the extent to which each such group's emissions exceeded the group's share of the state's assurance level. For the CSAPR NOX Ozone Season Group 2 Trading Program, the procedures are set forth at 40 CFR 97.802 (definitions of “common designated representative,” “common designated representative's assurance level,” and “common designated representative's share”), 97.806(c)(2), and 97.825.

On July 15, 2022, EPA published a document in the Federal Register providing notice of the data relied on to determine the amount of the exceedance of the Missouri assurance level and the preliminary calculations of the amounts of additional allowances that the owners and operators of certain Missouri units must surrender as a result of the exceedance and describing the process for submitting any objections (87 FR 42459). EPA received no written submissions objecting to the data and preliminary calculations.

In this document, EPA is providing notice of the final calculations of the amounts of additional allowances that must be surrendered. Responsibility for surrendering 2,590 additional allowances for the Missouri exceedance has been apportioned almost entirely to the group of units operated by Associated Electric Cooperative, Inc. (2,570 allowances), with much smaller shares apportioned to the groups of units operated by the municipal utilities of Chillicothe and Higginsville (4 and 16 allowances, respectively). Each set of owners and operators identified pursuant to this notice of the final calculations must hold the required additional allowances in an assurance account by November 1, 2022.

The data and final calculations are set forth in an Excel spreadsheet entitled “2021_CSAPR_assurance_provision_calculations_final.xlsx” available at http://www.epa.gov/csapr/csapr-assurance-provision-nodas. The spreadsheet contains data for the 2021 control period showing, for each Missouri unit identified as affected under the CSAPR NOX Ozone Season Group 2 Trading Program, the amount of NOX emissions reported by the unit and the amount of CSAPR NOX Ozone Season Group 2 allowances allocated to the unit, including any allowances allocated from a new unit set-aside. The spreadsheet also contains calculations for the 2021 control period showing the total NOX emissions reported by all such units in the state and the amount by which the total reported NOX emissions exceeded the state's assurance level under the program. Finally, the spreadsheet also includes calculations for the 2021 control period showing, for each common designated representative for a group of such units in the state, the common designated representative's share of the total reported NOX emissions, the common designated representative's share of the state's assurance level, and the amount of additional CSAPR NOX Ozone Season Group 2 allowances that the owners and operators of the units in the group must surrender.

(Authority: 40 CFR 97.825(b).)

Rona Birnbaum,
Director, Clean Air Markets Division, Office of Atmospheric Programs, Office of Air and Radiation.

[FR Doc. 2022-20380 Filed 9-20-22; 8:45 am]

BILLING CODE 6560-50-P